DEPARTMENT OF TRANSPORTATION

Coast Guard

33 CFR Part 110

[CGD09-01-122]

RIN 2115-AA98

Special Anchorage Area: Henderson Harbor, NY

AGENCY: Coast Guard, DOT.

ACTION: Final rule; request for additional comments.

SUMMARY: The purpose of this document is to solicit comments on the appropriate size of the Henderson Harbor Special Anchorage Area. On March 7, 2000, the Coast Guard published a final rule that substantially increased the size of the special anchorage area. Due to concerns from the local community, the Coast Guard is soliciting additional comments regarding the appropriate size of the Special Anchorage Area.

DATES: Comments must be received by April 2, 2002.

ADDRESSES: You may mail comments to Commander (mco-1), Ninth Coast Guard District, 1240 E. Ninth Street, Cleveland, Ohio 44199-2060, or deliver them to room 2069 at the same address between 9 a.m. and 2 p.m., Monday through Friday, except Federal holidays. The telephone number is (216) 902-6056.

The Ninth Coast Guard District Marine Safety Office maintains the public docket. Comments, and documents indicated in this preamble, will become part of this docket and will be available for inspection or copying at room 2069, Ninth Coast Guard District, between 9 a.m. and 2 p.m., Monday through Friday, except Federal holidays.

FOR FURTHER INFORMATION CONTACT: Commander Ronald Branch, Chief, Marine Safety Compliance Operations Branch, Ninth Coast Guard District Marine Safety Office, 1240 E. Ninth Street, Cleveland, Ohio 44199-2060. The phone number is (216) 902-6056.

SUPPLEMENTARY INFORMATION:

Request for Comments

The Coast Guard encourages interested persons to submit data, views, or arguments. Persons submitting comments should include their names and addresses, identify this docket (CGD09-01-122) and the specific section of this document to which each comment applies, and give the reason for each comment. Please submit two copies of all comments and attachments in an unbound format, no larger than 8½ by 11 inches, suitable for copying and electronic filing. Persons wanting acknowledgment of receipt of comments should enclose stamped, self-addressed postcards or envelopes.

Background Information

The Coast Guard published a Notice of Proposed Rulemaking (NPRM) in the Federal Register on November 5, 1999 (64 FR 60399). During the comment period for the NPRM, the Coast Guard received several positive comments from the community regarding the proposed enlargement of the anchorage area. Following the close of the comment period on January 4, 2000, the Coast Guard published a final rule in the Federal Register on March 7, 2000 (65 FR 11892).

The final rule extended anchorage area A approximately 1000 feet while keeping the width approximately the same as the existing anchorage area. The additional anchorage area was requested to compensate for the loss of safe anchorage area due to lower water levels. Since vessels must request permission from the Henderson Harbor Town Harbormaster before anchoring or mooring in the special anchorage area, the additional area gave the Town Harbormaster increased deepwater areas in which to direct vessels for safe anchorage.

The Coast Guard has received letters and requests from members of the community, as well as town leaders, indicating that they would like to see an additional change to the anchorage area. Persons submitting comments should do as directed under request for comments above, and reply to the following specific suggested anchorage areas. Form letters simply citing anecdotal evidence or stating support for or opposition to regulations, without providing substantive data or arguments do not supply support for regulations. The following two options are being considered:

1. Continue To Use Current Enlarged Anchorage Area

(a) Area A. The area in the southern portion of Henderson Harbor west of the Henderson Harbor Yacht Club bounded by a line beginning at latitude 43°51′ 08.8″ N, longitude 76°12′ 08.9″ W, thence to 43°51′09.0 N, 76°12.19.0 W, thence to 43°51′33.4″ N, 76°12′19.0″ W, thence to 43°51′33.4″ N, 76°12′09.6″ W, thence to the point of the beginning. These coordinates are based upon North American Datum 1983 (NAD 83).

(b) Area B. The area in the southern portion of Henderson Harbor north of Graham Creek Entrance Light bounded by a line beginning at latitude 43°51′21.8″ N, longitude 76°11′58.2″ W, thence to latitude 43°51′21.7″ N, longitude 76°12′05.5″ W, thence to latitude 43°51′33.4″ N, longitude 76°12′06.2″ W, thence to latitude 43°51′33.6″ N, longitude 76°12′00.8″ W, thence to the point of the beginning. All nautical positions are based on North American Datum 1983 (NAD 83).

2. Revert Anchorage Area A Back to Previous Smaller Size

(a) Area A. The area in the southern portion of Henderson Harbor west of the Henderson Harbor Yacht club bounded by a line beginning at 43°51′08.8′ N, 76°12′08.9″ W, thence to 43°51′09.0″ N, 76°12′19.0″ W, thence to 43°51′23.8″ N, 76°12′19.0 W, thence to 43°51′23.8″ N, 76°12′09.6″ W, and then back to the beginning. These coordinates are based upon North American Datum 1983 (NAD 83).

(b) Area B. The area in the southern portion of Henderson Harbor north of Graham Creek Entrance Light bounded by a line beginning at latitude 43°51′21.8″ N, longitude 76°11′58.2″ W, thence to latitude 43°51′21.7″ N, longitude 76°12′05.5″ W, thence to latitude 43°51′33.4″ N, longitude 76°12′06.2″ W, thence to latitude 43°51′33.6″ N, longitude 76°12′00.8″ W, thence to the point of the beginning. All nautical positions are based on North American Datum 1983 (NAD 83).

Dated: December 17, 2001.
James D. Hull,
Rear Admiral, U.S. Coast Guard, Commander, Ninth Coast Guard District.

[FR Doc. 01-32042 Filed 12-31-01; 8:45 am]

BILLING CODE 4910-15-P